ENVIRONMENTAL PROTECTION AGENCY

[Docket# EPA-RO4-SFUND-2011-0278, FRL-9290-7]

National Starch and Chemical Company, Salisbury, Rowan County, North Carolina; Notice of Correction

AGENCY: Environmental Protection Agency.

ACTION: Notice of correction concerning location of Site.

SUMMARY: In the Federal Register published March 18, 2011, FR9284, EPA posted a Notice of Settlement for past cost under Section 122(h)(1) of the Comprehensive Environmental Response, Compensation and Liability Act (CERCLA), concerning the National Starch and Chemical Company Site located in Salisbury, Rowan County, North Carolina. In the published notice the location of the Site is indicated in error as Mobile, Mobile County, Alabama. The Site is located in Salisbury, Rowan County, North Carolina.

DATES: The Agency will consider public comments on the settlement until April 18, 2011. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2011-0278 or Site name National Starch and Chemical Company Superfund Site by one of the following methods:

• http://www.regulations.gov: Follow the on-line instructions for submitting comments.

• http://www.epa.gov/region4/waste/sf/enforce.htm

• E-mail: Painter.Paula@epa.gov

FOR FURTHER INFORMATION CONTACT: Paula V. Painter at 404/562-8887.

Dated: March 25, 2011.
Anita L. Davis,
Chief, Superfund Enforcement & Information Management Branch, Superfund Division.

[FR Doc. 2011-8177 Filed 4-5-11; 8:45 am]

BILLING CODE 6560-50-P